DEPARTMENT OF THE INTERIOR

National Park Service

[NPS-WASO-NRNHL-DTS#-41256; PPWOCRADI0, PCU00RP14.R50000]

National Register of Historic Places; Notification of Pending Nominations and Related Actions

AGENCY: National Park Service, Interior.

ACTION: Notice.

SUMMARY: The National Park Service is soliciting electronic comments on the significance of properties nominated before September 20, 2025, for listing or related actions in the National Register of Historic Places.

DATES: Comments should be submitted electronically by December 2, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before September 20, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

LOUISIANA

La Salle Parish

Carter-Carraway House, 2973 N First Street, Jena, SG100012366

Breithaupt-Moseley House, 150 Daisy Hill Lane, Jena, SG100012367

Richland Parish

Downtown Delhi Historic District (Boundary Increase), Roughly bounded by Fourth Street to the north, Hall and Broadway Streets to the east, Louisiana and Tennessee Streets to the south, and Chicago and Race Streets to the west. Delhi, BC100012365

MASSACHUSETTS

Bristol County

Rogers Grammar School, 0 Chesnut Street and 100 Pleasant Street, Fairhaven, SG100012360

Essex County

Amesbury Public Library, 149 Main Street, Amesbury, SG100012354

Plymouth County

Holy Family Church Complex Historic District, 18 North Avenue, 403 Union Street, and 408 Union Street, Rockland, SG100012359

MISSISSIPPI

Alcorn County

Easom High School, 700 Crater Street, Corinth, SG100012355

NEW YORK

Erie County

Beth Jacob Cemetery, 23 Doat Street, Buffalo, SG100012373

Madison County

Roswell Beckwith, Sr. House, 4622 Syracuse Road, Cazenovia, SG100012372

Saratoga County

School No. 5 “The Little Red Schoolhouse”, 344 Moe Road, Clifton Park, SG100012371

Suffolk County

Corwith-Jones Farmhouse, 248 Newlight Lane, Southampton, SG100012370

Warren County

Chestertown Historic District (Boundary Increase), NY-9/Main St., Riverside Dr., Mill St., LaFlure Ln., Pine St., Theriot Av., Chester, BC100012369

OHIO

Cuyahoga County

Emmanuel Baptist Church (Twentieth-Century African American Civil Rights Movement in Ohio MPS), 7901 Quincy Ave., Cleveland, MP100012357

Additional documentation has been received for the following resource(s):

LOUISIANA

Richland Parish

Downtown Delhi Historic District (Additional Documentation), 606-708 1st St. and 115-201 Broadway, Delhi, AD97000234

NEW YORK

Warren County

Chestertown Historic District (Additional Documentation), Canada Dr. (U.S. 9), Chestertown, AD77000984

WEST VIRGINIA

Cabell County

Downtown Huntington Historic District (Boundary Increase), Portions of Third Ave. to the alley bet. Sixth and Seventh Aves. and from Twelfth St. to Seventh St., Huntington, AD07000240

Nomination(s) submitted by Federal Preservation Officers:

The State Historic Preservation Officer reviewed the following nomination(s) and responded to the Federal Preservation Officer within 45 days of receipt of the nomination(s) and supports listing the properties in the National Register of Historic Places.

NEW MEXICO

Otero County

White Sands National Monument Historic District (Additional Documentation), 19955 Highway 70 West, Alamogordo vicinity, AD88000751

Authority: Section 60.13 of 36 CFR part 60.

Sherry A. Frear,
Chief, National Register of Historic Places/National Historic Landmarks Program.

[FR Doc. 2025-19909 Filed 11-14-25; 8:45 am]

BILLING CODE 4312-52-P